DEPARTMENT OF JUSTICE

Notice of Lodging of Consent Decree Under the Clean Air Act of 1970, as Amended

Pursuant to 28 CFR 50.7, notice is hereby given that on April 29, 2008, a proposed consent decree in United States v. Sun State Builders, Inc., Civil Action No. 2:08-CV-00816-HRH, was lodged with the United States District Court for the District of Arizona.

This Consent Decree will resolve claims asserted by the United States against Sun State for injunctive relief and civil penalties based on violations of Maricopa County dust control regulations incorporated in the Arizona State Implementation Plan under the Clean Air Act (“the Act”). The complaint in this action seeks civil penalties and injunctive relief under Section 113(b) of the Act, 42 U.S.C. 7413(b), against the Defendant for failure to install suitable trackout control devices, failure to immediately clean up trackout, failure to implement dust control measures, and failure to operate a water application system while conducting earth moving, in violation of Rule 310 of Regulation 3 of the Maricopa County Air Quality Department (MCAQD), which is part of the federally approved and federally enforceable State Implementation Plan (SIP) submitted to EPA by the State of Arizona pursuant to Section 110 of the Act, 42 U.S.C. 7410.

The proposed Consent Decree settles these claims by providing for payment by the Defendant of $106,000 in civil penalties to the United States. The Consent Decree also requires implementation of measures designed to abate fugitive dust emissions, including the designation of qualified dust control coordinators at sites with five acres or more of disturbed surface area and requiring dust control training for employees whose job responsibilities involve dust generating operations.

The Department of Justice will receive for a period of thirty (30) days from the date of this publication comments relating to the Decree. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States v. Sun State Builders, Inc., D.J. Ref. #90-5-2-1-09146.

The consent decree may be examined at the Office of the United States Attorney for the District of Arizona, 40 N. Central Ave., Suite 1200, Phoenix, Arizona 85004, and at U.S. EPA Region 9, Office of Regional Counsel, 75 Hawthorne Street, San Francisco, California 94105. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

Henry Friedman,
Assistant Section Chief, Environmental Enforcement Section, Environment and Natural Resources Division.

[FR Doc. E8-10241 Filed 5-7-08; 8:45 am]

BILLING CODE 4410-15-P